DEPARTMENT OF HEALTH AND HUMAN SERVICES

National Institutes of Health

National Library of Medicine; Amended Notice of Meeting

Notice is hereby given of a change in the meeting of the Board of Regents, May 12-13, 2020, 9:00 a.m. to 4:00 p.m. at the National Institutes of Health, Building 38, Lindberg Room, 8600 Rockville Pike, Bethesda, MD 20892 which was published in the Federal Register on February 4, 2020, 85 FR 23, Page 6210.

This notice is being amended to change the meeting location from the National Institutes of Health, Building 38, Lindberg Room, 8600 Rockville Pike, Bethesda, MD 20892 to a virtual meeting. The URL link to this meeting is: https://videocast.nih.gov. Any member of the public may submit written comments no later than 15 days after the meeting.

Dated: March 27, 2020.
Ronald J. Livingston, Jr.,
Program Analyst, Office of Federal Advisory Committee Policy.

[FR Doc. 2020-06768 Filed 3-31-20; 8:45 am]

BILLING CODE 4140-01-P